DEPARTMENT OF THE INTERIOR

National Park Service

Kaloko-Konokohau National Historical Park; Advisory Commission; Notice of Meeting

Notice is hereby given in accordance with the Federal Advisory Committee Act that a meeting of the Na Hoapili O Kaloko Honokohau, Kaloko-Honokohau National Historical Park Advisory Commission will be held at 9 a.m., May 7, 2005, at Kaloko-Honokohau National Historical Park headquarters, Kailua-Kona, Hawaii.

The agenda will be on discussions on the results of the Planning and Development of the Live-In Cultural Center workshop.

The meeting is open to the public. Disabled persons requiring special assistance should contact the Superintendent at (808) 329-6881 ext 7, 7 days prior to the meeting.

Minutes will be recorded for documentation and transcribed for dissemination. Minutes of the meeting will be available to the public after approval of the full Advisory Commission. Transcripts will be available after 30 days of the meeting.

For copies of the minutes, contact Kaloko-Honokohau National Historical Park at (808) 329-6881.
Dated: March 10, 2005.
Geraldine K. Bell,
Superintendent, Kaloko-Honokohau National Historical Park.

[FR Doc. 05-8307 Filed 4-25-05; 8:45 am]

BILLING CODE 4312-6H-M